DEPARTMENT OF AGRICULTURE

Animal and Plant Health Inspection Service

[Docket No. APHIS-2023-0071]

Addition of Bosnia and Herzegovina and Kosovo to the List of Regions Affected by African Swine Fever

AGENCY: Animal and Plant Health Inspection Service, USDA.

ACTION: Notice.

SUMMARY: We are advising the public that we have added Bosnia and Herzegovina and Kosovo to the Animal and Plant Health Inspection Service (APHIS) list maintained on the APHIS website of regions considered to be affected with African swine fever (ASF). We have taken this action because of the confirmation of ASF in those countries.

DATES: Bosnia and Herzegovina was added to the APHIS list of regions considered affected with ASF effective June 26, 2023. Kosovo was added to the APHIS list of regions considered affected with ASF effective August 7, 2023.

FOR FURTHER INFORMATION CONTACT: Dr. Heather Sriranganathan, APHIS Veterinary Services, Regionalization Evaluation Services, 4700 River Road, Riverdale, MD, 20747; phone: (717) 818-3582; email: AskRegionalization@usda.gov.

SUPPLEMENTARY INFORMATION: The regulations in 9 CFR part 94 (referred to below as the regulations) govern the importation of specified animals and animal products to prevent the introduction into the United States of various animal diseases, including African swine fever (ASF). ASF is a highly contagious disease of wild and domestic swine that can spread rapidly with extremely high rates of morbidity and mortality. A list of regions where ASF exists or is reasonably believed to exist is maintained on the Animal and Plant Health Inspection Service (APHIS) website at https://www.aphis.usda.gov/aphis/ourfocus/animalhealth/animal-and-animal-product-import-information/animal-health-status-of-regions/. This list is referenced in § 94.8(a)(2) of the regulations.

Section 94.8(a)(3) of the regulations states that APHIS will add a region to the list referenced in § 94.8(a)(2) upon determining ASF exists in the region or having reason to believe the disease exists in the region, based on reports APHIS receives of outbreaks of the disease from veterinary officials of the exporting country, from the World Organization for Animal Health (WOAH),¹ or from other sources the Administrator determines to be reliable, or upon determining that there is reason to believe the disease exists in the region. Section 94.8(a)(1) of the regulations specifies the criteria on which the Administrator bases the reason to believe ASF exists in a region. Section 94.8(b) prohibits the importation of pork and pork products from regions listed in accordance with § 94.8 except if processed and treated in accordance with the provisions specified in that section or consigned to an APHIS-approved establishment for further processing. Section 96.2 restricts the importation of swine casings that originated in or were processed in a region where ASF exists, as listed under § 94.8(a).

¹ The World Organization for Animal Health internationally follows a British English spelling of “organisation” in its name; also, it was formerly the Office International des Epizooties, or OIE, but on May 28, 2022, the Organization announced that the acronym was changed from OIE to WOAH.

On June 22, 2023, the veterinary authorities of Bosnia and Herzegovina reported to WOAH the occurrence of ASF in that country. In response to that report, on June 26, 2023, APHIS added Bosnia and Herzegovina to the list of regions where ASF exists or the Administrator has reason to believe that ASF exists, in compliance with § 94.8(a)(3). This notice serves as an official record and public notification of that action.

On July 17, 2023, the veterinary authorities of Kosovo reported to the European Commission the confirmation of ASF in that country. In response to the European Union's Animal Diseases Information System report, on August 7, 2023, APHIS added Kosovo to the list of regions where ASF exists or the Administrator has reason to believe that ASF exists, in compliance with § 94.8(a)(3). This notice serves as an official record and public notification of that action.

As a result, pork and pork products from Bosnia and Herzegovina and Kosovo, including casings, are subject to APHIS import restrictions designed to mitigate the risk of ASF introduction into the United States.

Authority: 7 U.S.C. 1633, 7701-7772, 7781-7786, and 8301-8317; 21 U.S.C. 136 and 136a; 31 U.S.C. 9701; 7 CFR 2.22, 2.80, and 371.4.

Done in Washington, DC, this 1st day of December 2023.
Michael Watson,
Acting Administrator, Animal and Plant Health Inspection Service.

[FR Doc. 2023-26865 Filed 12-6-23; 8:45 am]

BILLING CODE 3410-34-P